DEPARTMENT OF AGRICULTURE

Rural Utilities Service

Information Collection Activity; Comment Request

AGENCY: Rural Utilities Service, USDA.

ACTION: Notice and request for comments.

SUMMARY: In accordance with the Paperwork Reduction Act of 1995 (44 U.S.C. Chapter 35, as amended), the Rural Utilities Service (RUS) invites comments on this information collection for which RUS intends to request approval from the Office of Management and Budget (OMB).

DATES: Comments on this notice must be received by January 21, 2014.

FOR FURTHER INFORMATION CONTACT: Michele L. Brooks, Director, Program Development and Regulatory Analysis, Rural Utilities Service, 1400 Independence Ave. SW., STOP 1522, Room 5162-South Building, Washington, DC 20250-1522. Telephone: (202) 690-1078, FAX: (202) 720-8435 or email: michele.brooks@wdc.usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that RUS is submitting to OMB for extension.

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to:

Michele L. Brooks, Director, Program Development and Regulatory Analysis, Rural Utilities Service, U.S. Department of Agriculture, STOP 1522, 1400 Independence Ave. SW., Washington, DC 20250-1522. Telephone: (202) 690-1078, FAX: (202) 720-8435 or email michele.brooks@wdc.usda.gov.

Title: Assistance to High Energy Cost Rural Communities.

OMB Control Number: 0572-0136.

Type of Request: Revision of a currently approved collection.

Abstract: The Rural Electrification Act of 1936 (RE Act) (7 U.S.C. 901 et seq.) was amended in November 2000 to create a new program to help rural communities with extremely high energy costs (Pub. L. 106-472). Under the new section 19 of the RE Act (7 U.S.C. 918a), the Secretary of Agriculture through RUS, is authorized to provide financial assistance through the following three funding streams:

• High Energy Cost Grants and Loans. RUS may provide grants and loans for energy generation, transmission, and distribution facilities serving communities with average home energy costs in excess of 275 percent of the national average. Many of the communities are in rural Alaska, but there are other eligible areas nationwide. Eligible applicants include persons, State agencies (including Territories), entities organized under State law, and Indian Tribes. Only grant funds have been appropriated to date.

• Denali Commission Grants and Loans. RUS may provide grants and loans to the Denali Commission, a Federal agency, for energy generation, transmission, and distribution facilities serving extremely high energy cost rural and remote communities in Alaska. Annual Denali grants are awarded and advanced as soon as funds are available to RUS. The Denali Grants are governed by a Memorandum of Understanding between the two agencies and by individual Grant Agreements. Only grant funds have been appropriated to date for the Denali Commission.

• Bulk Fuel Revolving Fund Grants. RUS may provide grants to State entities in existence as of November 9, 2000, to support revolving loan funds to improve the efficiency of fuel purchases for communities where the fuel cannot be delivered by surface transportation. Only Alaska and a handful of other States are eligible.

Estimate of Burden: Public reporting burden for this collection of information is estimated to average 3.18 hours per response.

Respondents: Business or other for-profit, not-for-profit institutions, State, Local, or Tribal Government.

Estimated Number of Respondents: 112.

Estimated Number of Responses per Respondent: 2.82.

Estimated Total Annual Burden on Respondents: 1,004.

Copies of this information collection can be obtained from Rebecca Hunt, Program Development and Regulatory Analysis, at (202) 205-3660, FAX: (202) 720-8435 or email: rebecca.hunt@wdc.usda.gov.

All responses to this notice will be summarized and included in the request for OMB approval. All comments will also become a matter of public record.

Dated: November 8, 2013.
John Charles Padalino,
Administrator, Rural Utilities Service.

[FR Doc. 2013-27702 Filed 11-18-13; 8:45 am]

BILLING CODE P